DEPARTMENT OF EDUCATION

National Assessment Governing Board; Meeting

AGENCY: Department of Education, National Assessment Governing Board.

ACTION: Notice of open and closed virtual meetings.

SUMMARY: This notice sets forth the agenda for a National Assessment Governing Board (hereafter referred to as Governing Board) meeting on November 19 and November 20, 2020. This notice provides information to members of the public who may be interested in attending the meeting or providing written comments related to the work of the Governing Board. Notice of this meeting is required under the Federal Advisory Committee Act (FACA).

DATES: The November 19-20, 2020 quarterly meeting of the Governing Board will be held on the following dates and times:

November 19, 2020: Open Meeting: 12:30-2:15 p.m. (ET); Closed Meeting: 2:30-4:45 p.m. (ET); Open Meeting: 5:00-6:15 p.m. (ET).

November 20, 2020: Open Meeting: 12:30-2:00 p.m. (ET); Closed Meeting: 2:15-5:30 p.m. (ET).

ADDRESSES: Virtual Meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Written comments related to the work of the Governing Board may be submitted electronically or in hard copy to the attention of the Executive Officer/Designated Federal Official (see contact information noted above).

Standing Committee Meetings

The Governing Board's standing committees will meet to conduct regularly scheduled work based on agenda items planned for this quarterly Governing Board meeting and follow-up items as reported in the Governing Board's committee meeting minutes available at https://www.nagb.gov/governing-board/quarterly-board-meetings.html. The committee meetings will take place prior to and subsequent to the November 19-20, 2020 quarterly Governing Board meeting. The Governing Board website www.nagb.gov will post final dates and times for these working committee meetings, which are open to the public via online registration 5 working days prior to each meeting.

Assessment Development Committee: Open Meeting: November 13, 2020; 4:45-6:45 p.m. (ET).

Executive Committee: Closed meeting: November 16, 2020; 4:00-5:15 p.m. (ET); Open Meeting: 5:20 p.m.-6:00: p.m.

Committee on Standards, Design and Methodology: Open Meeting: December 7, 2020; 3:00-6:00 p.m. (ET).

Reporting & Dissemination Committee (R&D): Open Meeting: November/December 2020; exact date and time to be determined.

Governing Board Meeting: November 19, 2020

Open Meeting: 12:30-2:15 p.m. (ET); Closed Meeting: 2:30-4:45 p.m. (ET); Open Meeting: 5:00-6:15 p.m. (ET).

On Thursday, November 19, 2020, the Governing Board will meet in open session from 12:30 p.m. to 2:15 p.m. From 12:30 p.m. to 1:30 p.m. Chair Haley Barbour will welcome members as well as review and approve the November 19-20, 2020 quarterly Governing Board meeting agenda and minutes from the July 30-31, 2020 quarterly Governing Board meeting and the September 29, 2020 Governing Board meeting. Standing committee chairs then will provide highlights of ongoing committee work.

At 1:30 p.m. Secretary DeVos will administer the oath of office to new members—Suzanne Lane, Testing and Measurement Expert, Julia Rafal-Baer, General Public Representative, Ron Reynolds, Non-Public School Administrator, and Mark White, State Legislator (Republican)—and reappointed Governing Board member, Alice Peisch, State Legislator (Democrat). The newly appointed and reappointed Governing Board members will introduce themselves and provide remarks.

The Governing Board Executive Director, Lesley Muldoon, will provide an update from 2:00 p.m. to 2:15 p.m. following which the Governing Board will take a 15-minute break.

On November 19, 2020, the Governing Board will convene two closed sessions from 2:30 p.m. to 4:45 p.m. Peggy Carr, Associate Commissioner, National Center for Education Statistics, will provide a briefing on NAEP operations and the NAEP budget from 2:30 p.m. to 4:00 p.m. The discussions may impact current and future NAEP contracts and budgets and must be kept confidential to maintain the integrity of the federal acquisition process. Such matters are protected by exemption 9(B) of § 552b(c) of Title 5 of the United States Code.

The second closed session will convene from 4:00 p.m. to 4:45 p.m. Governing Board members will receive an annual ethics briefing from Marcella Goodridge, Assistant General Counsel, Ethics Division, Office of the General Counsel, U.S. Department of Education. The discussions pertain solely to internal personnel rules and practices of an agency and information of a personal nature where disclosure would constitute a clearly unwarranted invasion of personal privacy. As such, the discussions are protected by exemptions 2 and 6 of § 552b(c) of Title 5 of the United States Code. The closed session will be followed by a 15-minute break, after which the Board will reconvene in open session.

From 5:00 p.m. to 6:15 p.m., the Governing Board will meet in open session to receive a panel presentation on Trend in NAEP. The November 19, 2020 session of the Governing Board meeting will adjourn at 6:15 p.m. ET.

The November 20, 2020 session of the Governing Board meeting will convene from 12:30 p.m. to 5:30 p.m. ET. The Governing Board will meet in open session from 12:30 p.m. to 2:00 p.m. when the Chair and Vice Chair of the Assessment Development Committee will lead a policy discussion on the update of the NAEP Reading Framework. Following a 15-minute break, the Governing Board will convene in two closed sessions, beginning at 2:15 p.m. and ending at 5:30 p.m. From 2:15 p.m. to 3:45 p.m., NCES staff will provide a briefing on eNAEP's Design. From 3:45 p.m. to 5:30 p.m., the Governing Board then will receive a briefing from Peggy Carr and Lesley Muldoon on the NAEP Assessment Schedule and Budget beyond 2021. The discussions during these two closed sessions may impact current and future NAEP contracts and budgets and must be kept confidential. Public disclosure of this confidential information would significantly impede implementation of the NAEP assessment program if conducted in open session. Such matters are protected by exemption 9(B) of § 552b(c) of Title 5 of the United States Code.

The November 20, 2020 meeting will adjourn at 5:30 p.m.

Public Participation: The public may participate in the open sessions of the meeting via advance registration. A link to the registration page will be posted on www.nagb.gov five working days prior to each meeting date.

Access to Records of the Meeting: Pursuant to FACA requirements, the public may also inspect the meeting materials at www.nagb.gov five working days prior to each meeting. The official verbatim transcripts of the public meeting sessions will be available for public inspection no later than 30 calendar days following the meeting.

Reasonable Accommodations: The meeting is accessible to individuals with disabilities. If you will need an auxiliary aid or service to participate in the meeting (e.g., interpreting service, assistive listening device, or materials in an alternate format), notify the contact person listed in this notice no later than ten working days prior to each meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U.S. Department of Education.

[FR Doc. 2020-24335 Filed 11-2-20; 8:45 am]

BILLING CODE 4000-01-P